DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy. Navy Case No. 96,744: Computer-Implemented Biological Sequence Identifier System and Method.//Navy Case No. 96,747: Methods and Apparatus for Simultaneous Rapid Detection and Agent-Specific Identification of Multiple, Diverse Pathogens Using Resequencing DNA Microarrays.//Navy Case No. 96,942: Diagnosis and Prognosis of Infectious Disease Clinical Phenotypes and Other Physiologic States Using Host Gene Expression Biomarkers in Blood.//Navy Case No. 97,417: Diagnosis and Prognosis of Infectious Disease Clinical Phenotypes and Other Physiologic States Using Host Gene Expression Biomarkers in Blood.//Navy Case No. 97,439: Broad-Spectrum Pathogen Diagnostic and Surveillance System.//Navy Case No. 97,747: Automated Sample-to-Microarray System.//Navy Case No. 97,748: Optimized Pathogen Resequencing Diagnostic and Surveillance System.//Navy Case No. 98,057: Rapid Detection For Over 20 Respiratory Pathogens Simultaneously in Clinical Samples Using Resequencing Arrays and any continuations, continuations-in-part divisionals or re-issues thereof.

DATES: Applications for an exclusive or partially exclusive license may be submitted at any time from the date of this notice.

ADDRESSES: Requests for copies of the inventions cited should be directed to the Naval Research Laboratory, Code 1004, 4555 Overlook Avenue, SW., Washington DC 20375-5320, and must include the Navy Case number.

FOR FURTHER INFORMATION CONTACT: Head, Technology Transfer Office, NRL Code 1004, 4555 Overlook Avenue, SW., Washington, DC 20375-5320, telephone 202-767-7230. Due to temporary U.S. Postal Service delays, please FAX to 202-404-7920, E-Mail techtran@utopia.nrl.navy.mil, or use courier delivery to expedite response.

(Authority: 35 U.S.C. 207, 37 CFR part 404)
Dated: June 1, 2006.
M.A. Harvison,
Lieutenant Commander, Judge Advocate General's Corps, U.S. Navy, Federal Register Liaison Officer.

[FR Doc. E6-8904 Filed 6-7-06; 8:45 am]

BILLING CODE 3810-FF-P